DEPARTMENT OF THE INTERIOR

National Park Service

[NPS-WASO-NAGPRA-NPS0040406; PPWOCRADN0-PCU00RP14.R50000]

Notice of Inventory Completion: William S. Webb Museum of Anthropology, University of Kentucky, Lexington, KY

AGENCY: National Park Service, Interior.

ACTION: Notice.

SUMMARY: In accordance with the Native American Graves Protection and Repatriation Act (NAGPRA), the William S. Webb Museum of Anthropology, University of Kentucky (WSWM) has completed an inventory of human remains and associated funerary objects and has determined that there is a cultural affiliation between the human remains and associated funerary objects and Indian Tribes or Native Hawaiian organizations in this notice.

DATES: Repatriation of the human remains and associated funerary objects in this notice may occur on or after July 17, 2025.

ADDRESSES: Send written requests for repatriation of the human remains and associated funerary objects in this notice to Celise Chilcote-Fricker, William S. Webb Museum of Anthropology, University of Kentucky, 1020 Export Street, Lexington, KY 40504, email celise.fricker@uky.edu.

SUPPLEMENTARY INFORMATION: This notice is published as part of the National Park Service's administrative responsibilities under NAGPRA. The determinations in this notice are the sole responsibility of the WSWM, and additional information on the determinations in this notice, including the results of consultation, can be found in the inventory or related records. The National Park Service is not responsible for the determinations in this notice.

Abstract of Information Available

Based on the information available, human remains representing, at least, five individuals have been reasonably identified. The four associated funerary objects are one lot ceramic, one lot lithic, one lot faunal and one soil sample. Site 15CY/OWxx, Clay Bluff Shelter, of Clay or Owsley County, Kentucky was donated by a private collector to the WSWM at an unknown time. No known hazardous substances are present.

Based on the information available, human remains representing, at least, six individuals have been reasonably identified. The one associated funerary object is one lot of faunal. Site 15CYxx was collected by Kentucky State Police from the Manchester lumberyard in Clay County, Kentucky and donated to the University of Kentucky Museum of Anthropology in 1965. No known hazardous substances are present.

Based on the information available, human remains representing, at least, five individuals have been reasonably identified. The one associated funerary object is a sandstone slab. Site 15HL13, Anderson Rockshelter in Harlan County, Kentucky was excavated in 1981 by University of Kentucky Museum of Anthropology staff and the Office of State Archaeology in response to a Kentucky State Police request about looting. No known hazardous substances are present.

Based on the information available, human remains representing, at least, seven individuals have been reasonably identified. The 13 associated funerary objects are one lot botanics, one lot ceramic, one lot charcoal, two lots faunal, one lot flotation, one lot lithic, one lot shell, two bone beads, one grinding/nutting stone, one projectile point, and one engraved shell gorget. Site 15KX24, Croley-Evans in Knox County, Kentucky was first surveyed by archaeologists from the Office of State Archaeology in 1978, then in 1979 remains were donated to the WSWM by the Kentucky Heritage Commission and then excavated in 1992-1994 and 1996 by University of Kentucky archaeologists as part of the Upper Cumberland Archaeological Project. No known hazardous substances are present.

Based on the information available, human remains representing, at least, two individuals have been reasonably identified. The seven associated funerary objects are one deer antler, one lot ceramic, one lot faunal, one floatation, one lot lithic, one lot shell, and one soil sample. Site 15PE08, Hall Shelter of Perry County, KY was surveyed, and surface collected by the Kentucky Heritage Commission in 1977, then excavated in 1978 and 1979 as part of a University of Kentucky Anthropology Department thesis project. No known hazardous substances are present.

Based on the information available, human remains representing, at least, three individuals have been reasonably identified. The four associated funerary objects are one lot botanics, one lot faunal, one lot lithics and one lot shell. Site 15PExx, Dead Man's Hollow in Perry County, Kentucky was donated to the WSWM in 1991 by the family of a private collector. No known hazardous substances are present.

Based on the information available, human remains representing, at least, one individual has been reasonably identified. No associated funerary objects are present. Site 15PUxx, a rockshelter in Pulaski County, Kentucky was sent to the University of Kentucky Museum of Anthropology for analysis. No known hazardous substances are present.

Based on the information available, human remains representing, at least, one individual has been reasonably identified. No associated funerary objects are present. Site 15PUxx, an unknown cave in Pulaski County, Kentucky was collected in 1910 and then donated to the WSWM in 2009. No known hazardous substances are present.

Based on the information available, human remains representing, at least, one individual has been reasonably identified. The one associated funerary object is a deer tibia. Site 15PU22, Jones Cave in Pulaski County, Kentucky was excavated by an amateur archaeologist in 1977 and then reported it to the Kentucky Heritage Commission who surveyed and surface collected, then donated to the WSWM. No known hazardous substances are present.

Based on the information available, human remains representing, at least, one individual has been reasonably identified. The three associated funerary objects are one lot lithic, one lot ceramic and one lot faunal. Site 15PU30, the Francis Knightkirk Cave in Pulaski County, Kentucky was surface collected by the Kentucky Heritage Commission in 1977 and then donated to the WSWM. No known hazardous substances are present.

Based on the information available, human remains representing, at least, one individual has been reasonably identified. The two associated funerary objects are one lot lithic and one grinding slab. Site 15Pu35, the Estil Grover Rockshelter in Pulaski County, Kentucky was surface collected by the Kentucky Heritage Council in 1977 and then donated to the WSWM. No known hazardous substances are present.

Based on the information available, human remains representing, at least, three individuals have been reasonably identified. No associated funerary objects are present. Site 15PU236, the Burton Shelter in Pulaski County, Kentucky was excavated by an amateur archaeologist and members of the Central Kentucky Archaeological Society in 1961-1962 and then donated to the WSWM in 1991. No known hazardous substances are present.

Based on the information available, human remains representing, at least, three individuals have been reasonably identified. The 21 associated funerary objects are one lot faunal, 19 flint knives and one fossil crinoid stem. Site 15PU237, the Bobtown Shelter in Pulaski County, Kentucky was excavated by an amateur archaeologist and members of the Central Kentucky Archaeological Society in 1961and then donated to the WSWM in 1991. No known hazardous substances are present.

Based on the information available, human remains representing, at least, two individuals have been reasonably identified. No associated funerary objects are present. Site 15PU238, the Little Burial Shelter in Pulaski County, Kentucky was excavated by an amateur archaeologist and members of the Central Kentucky Archaeological Society in 1961 and donated to the WSWM in 1991. No known hazardous substances are present.

Based on the information available, human remains representing, at least, 18 individuals have been reasonably identified. The 167 associated funerary objects are one antler flaker, one anvil stone, two black shale hoes, six blanks, 25 bone awls, one bone needle, one bone pendant, two celts, three celt fragments, one ceramic pipe, one cut wolf jaw, one drilled mussel shell, two expanded bar gorgets, one flint knife, one groundhog tooth pendant, four hammerstones, one hematite polishing stone, 20 limestone hoes, three limestone pestles, one lithic discoidal, one lithic drill, two lithic gorgets, 41 lithic projectile points, one piece of mica, one modified bear tooth, one modified deer ulna, two plummets, four scrapers, 30 shell beads, one shell spoon, two lots ceramic, one lot faunal, one lot lithic and one lot shell. Site 15WN01, Hines Cave in Wayne County, Kentucky was excavated in 1922 by the future founders of the WSWM. No known hazardous substances are present.

Based on the information available, human remains representing, at least, one individual has been reasonably identified. No associated funerary objects are present. Site 15WN02, Hogg Cave/Widow Conley Cave in Wayne County, Kentucky was surface collected in 1922 by Webb and Funkhouser. No known hazardous substances are present.

Based on the information available, human remains representing, at least, six individuals have been reasonably identified. The eight associated funerary objects are one bear tooth pendant, one bone fishhook, one lot charcoal, one lot faunal, one lot lithic, one lithic projectile point, one drilled faunal cranial bone, and one human effigy head pipe. Site 15WN96, Monticello Cave in Wayne County, Kentucky was excavated by a private collector until 2007 when his collection was turned in to the Kentucky Department of Fish and Wildlife Services who brought it to the WSWM. No known hazardous substances are present.

Based on the information available, human remains representing, at least, one individual has been reasonably identified. No associated funerary objects are present. Site 15WH00, an unknown site in Whitley County, Kentucky was excavated by an amateur archaeologist and sent to a former director of the WSWM in 1975. No known hazardous substances are present.

Cultural Affiliation

Based on the information available and the results of consultation, cultural affiliation is reasonably identified by the geographical location or acquisition history of the human remains and associated funerary objects described in this notice.

Determinations

The WSWM has determined that:

• The human remains described in this notice represent the physical remains of 67 individuals of Native American ancestry.

• The 232 objects described in this notice are reasonably believed to have been placed intentionally with or near individual human remains at the time of death or later as part of the death rite or ceremony.

• There is a reasonable connection between the human remains and associated funerary objects described in this notice and the Absentee-Shawnee Tribe of Indians of Oklahoma; Cherokee Nation; Eastern Band of Cherokee Indians; Eastern Shawnee Tribe of Oklahoma; Shawnee Tribe; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 17, 2025. If competing requests for repatriation are received, the WSWM must determine the most appropriate requestor prior to repatriation. Requests for joint repatriation of the human remains and associated funerary objects are considered a single request and not competing requests. The WSWM is responsible for sending a copy of this notice to the Indian Tribes and Native Hawaiian organizations identified in this notice.

Authority: Native American Graves Protection and Repatriation Act, 25 U.S.C. 3003, and the implementing regulations, 43 CFR 10.10.

Dated: June 11, 2025
Melanie O'Brien,
Manager, National NAGPRA Program.

[FR Doc. 2025-11135 Filed 6-16-25; 8:45 am]

BILLING CODE 4312-52-P